FEDERAL MARITIME COMMISSION

Notice of Agreements Filed

The Commission hereby gives notice of the filing of the following agreements under the Shipping Act of 1984. Interested parties may submit comments on the agreement to the Secretary, Federal Maritime Commission, Washington, DC 20573, within twelve days of the date this notice appears in the Federal Register. A copies of the agreements are available through the Commission's Web site (www.fmc.gov) or by contacting the Office of Agreements at (202) 523-5793 or tradeanalysis@fmc.gov.

Agreement No.: 012058-001.

Title: Hoegh Autoliners/K-Line Space Charter Agreement.

Parties: Hoegh Autoliners AS and Kawasaki Kisen Kaisha, Ltd.

Filing Party: Wayne R. Rohde; Cozen O'Connor; 1627 I Street NW., Suite 1100; Washington, DC 20006.

Synopsis: The Amendment expands the geographic scope of the agreement to include the trade from ports on the West Coast of the United States to ports in Korea, Japan and China. It also updates the address of Hoegh Autoliners.

Agreement No.: 012206-001.

Title: Grimaldi/”K” Line Space Charter Agreement.

Parties: Grimaldi Deep Sea S.p.A. and Kawasaki Kisen Kaisha, Ltd.

Filing Party: Wayne R. Rohde; Cozen O'Connor; 1627 I Street NW., Suite 1100; Washington, DC 20006.

Synopsis: The amendment changes the name of Industria Armamento Meridionale S.P.A. to Grimaldi Deep Sea S.p.A. and restates the agreement to reflect the name change.

Agreement No.: 012318.

Title: MOL/Kyowa Shipping Co., Ltd. Space Charter Agreement.

Parties: Mitsui O.S.K. Lines, Ltd. and Kyowa Shipping Co., Ltd.

Filing Party: Eric. C. Jeffrey, Esq.; Nixon Peabody LLP; 401 9th Street NW., Suite 900; Washington, DC 20004.

Synopsis: The agreement authorizes MOL to charter space from Kyowa in the trade from Japan, on the one hand, to Guam and Saipan, on the other hand.

By Order of the Federal Maritime Commission.
Dated: March 4, 2015.
Karen V. Gregory,
Secretary.

[FR Doc. 2015-05419 Filed 3-6-15; 8:45 am]

BILLING CODE 6730-01-P